DEPARTMENT OF COMMERCE

International Trade Administration

[A-570-929]

Small Diameter Graphite Electrodes From the People's Republic of China: Final Rescission of Antidumping Duty New Shipper Review; 2014

AGENCY: Enforcement and Compliance, International Trade Administration, Department of Commerce.

SUMMARY: On May 28, 2015, the Department of Commerce (the Department) published its Preliminary Rescission of the new shipper review of the antidumping duty order on small diameter graphite electrodes from the People's Republic of China (PRC) for the period of review (POR) of February 1, 2014, through August 31, 2014, for Xuzhou Jianglong Carbon Products Co., Ltd. (Jianglong).¹ For these final results, we continue to find that Jianglong's request does not satisfy the regulatory requirements for a new shipper review. Accordingly, we are rescinding the new shipper review for Jianglong.

¹ See Small Diameter Graphite Electrodes from the People's Republic of China: Preliminary Rescission of Antidumping Duty New Shipper Review; 2014, 80 FR 30438 (May 28, 2015) (Preliminary Rescission).

DATES: Effective date: October 16, 2015.

FOR FURTHER INFORMATION CONTACT: Hermes Pinilla or Minoo Hatten, AD/CVD Operations, Office I, Enforcement and Compliance, International Trade Administration, U.S. Department of Commerce, 14th Street and Constitution Avenue NW., Washington, DC 20230; telephone: (202) 482-3477 or (202) 482-1690, respectively.

SUPPLEMENTARY INFORMATION:

Background

In the Preliminary Rescission, the Department found that Jianglong is affiliated with Shanghai Carbon International Trade Co., Ltd. (Shanghai Carbon), which, as part of the PRC-wide Entity in the 2012-2013 administrative review, had shipments of subject merchandise to the United States. While conceding its affiliation with Shanghai Carbon, Jianglong did not certify its first U.S. entry or shipment and U.S. sale, as required under 19 CFR 351.214(b)(2)(iv)(A) and (C), respectively. Jianglong also did not request a new shipper review within one year of its first U.S. entry or shipment, as required by 19 CFR 351.214(c).

We received case and rebuttal briefs with respect to the Preliminary Rescission and, at the request of interested parties, held a hearing on August 5, 2015. We extended the due date for the final results of the review to October 5, 2015.² We conducted this new shipper review in accordance with section 751(a)(2)(B) of the Tariff Act of 1930, as amended (the Act), and 19 CFR 351.214.

² See memorandum entitled, “Small Diameter Graphite Electrodes from the People's Republic of China: Extension of Deadline for Final Results of Antidumping Duty New Shipper Review; 02/01/2014-08/31/2014” dated August 6, 2015.

Scope of the Order

The merchandise covered by the order includes all small diameter graphite electrodes of any length, whether or not finished, of a kind used in furnaces, with a nominal or actual diameter of 400 millimeters (16 inches) or less, and whether or not attached to a graphite pin joining system or any other type of joining system or hardware. The subject merchandise is currently classifiable under the Harmonized Tariff Schedule of the United States (HTSUS) subheadings 8545.11.0010 ³ and 3801.10. The HTSUS numbers are provided for convenience and customs purposes, but the written description of the scope is dispositive. A full description of the scope of the order is contained in the Issues and Decision Memorandum.⁴

³ The scope described in the order refers to the HTSUS subheading 8545.11.0000. We point out that, starting in 2010, imports of small diameter graphite electrodes are classified in the HTSUS under subheading 8545.11.0010 and imports of large diameter graphite electrodes are classified under subheading 8545.11.0020.

⁴ See Memorandum from Christian Marsh, Deputy Assistant Secretary for Antidumping and Countervailing Duty Operations, to Paul Piquado, Assistant Secretary for Enforcement and Compliance, “Issues and Decision Memorandum for Final Rescission of Antidumping Duty New Shipper Review: Small Diameter Graphite Electrodes from the People's Republic of China” (Issues and Decision Memorandum), dated concurrently with and hereby adopted by this notice.

Final Rescission of Jianglong

As we explain in the Issues and Decision Memorandum, we continue to find that, because Jianglong is affiliated with an entity that had prior shipments of subject merchandise for consumption to the United States, and did not request a new shipper review within one year of those shipments, it is ineligible for a new shipper review. First, Jianglong did not certify its first U.S. entry or shipment and U.S. sale, as required under 19 CFR 351.214(b)(2)(iv)(A) and (C), respectively. Second, Jinaglong did not request a new shipper review within one year of reporting its first U.S. entry or shipment, thus failing to satisfy the requirement of 19 CFR 351.214(c). Because Jianglong's new shipper review request does not satisfy these regulatory requirements, we are rescinding the review.⁵

⁵ See Issues and Decision Memorandum.

Analysis of Comments Received

All issues raised in the case and rebuttal briefs by parties to this new shipper review are addressed in the Issues and Decision Memorandum. A list of the issues raised is attached to this notice as an appendix. The Issues and Decision Memorandum is a public document and is on file electronically via Enforcement and Compliance's Antidumping and Countervailing Duty Centralized Electronic Service System (ACCESS). ACCESS is available to registered users at http://access.trade.gov, and in the Central Records Unit, B8024 of the main Department of Commerce building. In addition, a complete version of the Issues and Decision Memorandum can be accessed directly on the Enforcement and Compliance Web site at http://enforcement.trade.gov/frn/index.html.

Cash Deposit Requirements

Effective upon publication of the final rescission of the new shipper review of Jianglong, we will instruct U.S. Customs and Border Protection (CBP) to discontinue the option of posting a bond or security in lieu of a cash deposit for entries of subject merchandise by Jianglong, in accordance with section 751(a)(2)(B)(iii) of the Act and 19 CFR 351.214(e). Cash deposits will be required for exports of subject merchandise by Jianglong entered, or withdrawn from warehouse, for consumption on or after the publication date at the ad valorem PRC-wide rate, 159.64 percent.

Assessment Rates

Entries of subject merchandise made by Jianglong covered by this new shipper review are within the POR covered by the administrative review initiated on April 3, 2015 (February 1, 2014 through January 31, 2015).⁶ Because Jianglong's entries are also covered by that administrative review and the POR of the new shipper review is within the POR of the administrative review, we will issue liquidation instructions and assess duties for Jianglong's entries upon completion of the ongoing administrative review. Accordingly, we will instruct CBP to assess antidumping duties on entries for Jianglong at the appropriate rate determined in the final results of the administrative review.

⁶ See Initiation of Antidumping and Countervailing Duty Administrative Reviews, 80 FR 18202 (April 3, 2015).

Notification to Importers

This notice also serves as a reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

This new shipper review and notice are in accordance with sections 751(a)(2)(B) and 777(i) of the Act and 19 CFR 351.214(f)(3).

Dated: October 5, 2015.
Paul Piquado,
Assistant Secretary for Enforcement and Compliance.

Appendix I

List of Issues Addressed in the Final Decision Memorandum

Summary

Background

Scope of the Order

Discussion of the Issues

Comment 1: Rescission of the New Shipper Review

Comment 2: The Bona Fides of the U.S. Sale

Comment 3: Surrogate Value for Coal Gas

Recommendation

[FR Doc. 2015-25984 Filed 10-15-15; 8:45 am]

BILLING CODE 3510-DS-P